FEDERAL COMMUNICATIONS COMMISSION

Public Information Collections Approved By Office of Management and Budget

September 1, 2004.

SUMMARY: The Federal Communications Commission (FCC) has received Office of Management and Budget (OMB) approval for the following public information collections pursuant to the Paperwork Reduction Act of 1995, Pub. L. 104-13. An agency may not conduct or sponsor and a person is not required to respond to a collection of information unless it displays a currently valid control number.

FOR FURTHER INFORMATION CONTACT: Paul J. Laurenzano, Federal Communications Commission, 445 12th Street, SW., Washington DC 20554, (202) 418-1359 or via the Internet at plaurenz@fcc.gov.

SUPPLEMENTARY INFORMATION: OMB Control No.: 3060-0816.

OMB Approval date: 8/30/2004.

Expiration Date: 8/31/2007.

Title: Local Competition and Broadband Reporting, CC Docket No. 99-301 and WC Docket No. 04-141 (NPRM).

Form No.: FCC form 477.

Estimated Annual Burden: 966 responses; 48,207 total annual burden hours; approximately 50 hours average per respondent.

Needs and Uses: FCC Form 477 seeks to gather information on the development of local competition and deployment of broadband service also known as advanced telecommunications services. The data are necessary to evaluate the status of developing competition in local exchange telecommunications markets and to evaluate the status of broadband deployment. The information is used by Commission staff to advise the Commission about the efficacy of Commission rules and policies adopted to implement the Telecommunications Act of 1996.

OMB Control No.: 3060-0166.

OMB Approval date: 8/23/2004.

Expiration Date: 8/31/2007.

Title: Part 42—Preservation of Records of Communications Common Carriers.

Form No.: N/A.

Estimated Annual Burden: 54 responses; 108 total annual burden hours; 2 hours per respondent.

Needs and Uses: Part 42 prescribes the regulations governing the preservation of records of communications common carriers that are fully subject to the jurisdiction of the FCC. The requirements are necessary to ensure the availability of carrier records needed by Commission staff for regulatory purposes.

OMB Control No.: 3060-0355.

OMB Approval date: 7/23/2004.

Expiration Date: 7/31/2007.

Title: Rate-of-Return Reports.

Form No.: FCC forms 492 and 492A.

Estimated Annual Burden: 114 responses; 912 total annual burden hours; 8 hours average per respondent.

Needs and Uses: FCC Form 492 is filed by each local exchange carrier (LEC) or group of carriers who file individual access tariffs or who are not subject to Sections 61.41 through 61.49 of the Commission's rules. Each LEC or group of affiiated carriers subject to the previously stated sections file FCC Form 492A. Both forms are filed annually. The reports contain rate-of-return information and are needed to enable the Commission to fulfill its regulatory responsibilities.

OMB Control No.: 3060-0106.

OMB Approval date: 7/26/2004.

Expiration Date: 7/31/2007.

Title: Section 43.61—Reports of Overseas Telecommunications Traffic.

Form No.: N/A.

Estimated Annual Burden: 134 responses; 2,412 total annual burden hours; 18 hours average per respondent.

Needs and Uses: On April 12, 2004, the Federal Communications Commission (“Commission”) released a Notice of Proposed Rulemaking (NPRM), “In the Matter of Reporting Requirements for U.S. Providers of International Telecommunications Services; Amendment of Part 43 of the Commission's Rules,” IB Docket No. 04-112, FCC 04-70. The Commission is seeking comments from the public on how to simplify the reporting requirements and to ensure the usefulness of the data collected by the Commission.

OMB Control No.: 3060-1062.

OMB Approval date: 7/13/2004.

Expiration Date: 7/31/2007.

Title: Schools and Libraries Universal Service Support Mechanism—Notification of Equipment Transfers.

Form No.: N/A.

Estimated Annual Burden: 600 responses; 600 total annual burden hours; 1 hour average per respondent.

Needs and Uses: The Commission addresses several matters related to the administration of the schools and libraries universal service mechanism (also known as the e-rate program). What makes this collection relevenat is in the event that a recipient is permanently or temporarily closed and equipment is transferred, the transferring entity must notify the Administrator of the transfer, and both the transferring and receiving entities must maintain detailed records documenting the transfer and the reason for the transfer for a period of five years.

Federal Communications Commission.
Marlene H. Dortch,
Secretary.

[FR Doc. 04-20534 Filed 9-9-04; 8:45 am]

BILLING CODE 6712-01-P